DEPARTMENT OF ENERGY

Notice of The Stakeholder Meeting To Receive Input on the U.S. Department of Energy (DOE) Energy Storage Grand Challenge (ESGC) Initiative

AGENCY: Office of Electricity, Department of Energy.

ACTION: Amendment to notice of stakeholder meetings.

SUMMARY: This notice advises interested persons that the DOE Research and Technology Investment Committee (RTIC) Energy Storage Subcommittee will hold stakeholder meetings for the ESGC via a virtual platform.

DATES: The modified dates for these meetings are as follows:

• May 1st, 2020 from 11:30 a.m. to 1:30 p.m. Eastern Daylight Time.

• Any subsequent ESGC events will be announced at a later time via the events page found in the section below.

ADDRESSES: These meetings will be held virtually via the WebEx platform. If you are interested in attending any of these meetings, please register at www.energy.gov/energy-storage-grand-challenge/events.

FOR FURTHER INFORMATION CONTACT: Vinod Siberry, U.S. Department of Energy, Office of Electricity, 1000 Independence Avenue SW, Washington, DC 20585-0121. Telephone: (202) 586-1207. For email please use rticstorage@hq.doe.gov and in the subject line include “Further Information”. In the body of the email please include your name, organization, and contact information, in addition to your question or inquiry.

SUPPLEMENTARY INFORMATION: The notice of this meeting was first published in the Federal Register of February 19, 2020 in FR 2020-03231 on pages 9464-9465. This Amendment is to inform the public that the meeting will be held electronically only.

Good Cause for Late Notice: This Amendment to Notice of public meeting is being published less than 15 days before the first meeting date of May 1, 2020. There is good cause for this late notice. Specifically, travel restrictions affecting members of the RTIC Energy Storage Subcommittee related to the ongoing increase in COVID-19 cases have led the RTIC to conclude that, out of an abundance of caution, an electronic meeting is appropriate.

The meeting is being moved to a wholly electronic format in light of travel restrictions affecting members of the RTIC Energy Storage Subcommittee and related to the ongoing increase in coronavirus (COVID-19) cases.

Signing Authority

This document of the Department of Energy was signed on April 23, 2020, by Bruce J. Walker, Assistant Secretary, Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 24, 2020.
Treena V. Garrett,
Federal Register Liaison Officer, U.S. Department of Energy.

[FR Doc. 2020-09056 Filed 4-28-20; 8:45 am]

BILLING CODE 6450-01-P